DEPARTMENT OF ENERGY

Federal Energy Regulatory Commission

[Docket Nos. ER03-262-009, ER03-262-010, ER03-262-013, EC98-40-008, ER98-2770-009, and ER98-2786-009]

New PJM Companies, American Electric Power Service Corp., Commonwealth Edison Company, and Commonwealth Edison Company of Indiana, Inc., Virginia Electric and Power Company, The Dayton Power and Light Company, and PJM Interconnection, LLC; Notice of Filing of Offer of Settlement

September 14, 2004.

On September 9, 2004, the Virginia State Corporation; the Commonwealth of Virginia, at the relation of its Governor, Mark R. Warner and its Attorney General, Jerry W. Kilgore; and the Louisiana Public Service Commission filed an Offer of Settlement (Settlement), in the above-docketed proceedings. By this notice, the period for filing initial comments on the Settlement is September 29, 2004. Reply shall be filed on or before October 12, 2004.

Magalie R. Salas,
Secretary.

[FR Doc. E4-2276 Filed 9-20-04; 8:45 am]

BILLING CODE 6717-01-P